DEPARTMENT OF TRANSPORTATION

Office of the Secretary

Notice of Applications for Certificates of Public Convenience and Necessity and Foreign Air Carrier Permits Filed Under Subpart B (Formerly Subpart Q) During the Week Ending September 15, 2012

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2012-0153.

Date Filed: September 11, 2012.

Due Date for Answers, Conforming Applications, or Motion to Modify Scope: October 2, 2012.

Description

Application of LLC Nord Wind requesting a foreign air carrier permit and exemption authority to engage in on-demand charter transportation of passengers, property and mail between point(s) in the Russian Federation and point(s) in the United States, as well as other charters subject to pertinent national, bilateral and international laws and regulations.

Renee V. Wright,
Program Manager, Docket Operations, Federal Register Liaison.

[FR Doc. 2012-24075 Filed 9-28-12; 8:45 am]

BILLING CODE 4910-9X-P